DEPARTMENT OF COMMERCE

National Oceanic and Atmospheric Administration

RIN 0648-XD150

Mid-Atlantic Fishery Management Council (MAFMC); Public Meeting

AGENCY: National Marine Fisheries Service (NMFS), National Oceanic and Atmospheric Administration (NOAA), Commerce.

ACTION: Notice of public meeting.

SUMMARY: The Mid-Atlantic Fishery Management Council will hold a workshop to discuss the potential governance challenges arising from the impacts of climate change on East Coast marine fisheries.

DATES: The meeting will begin on Wednesday, March 19, 2014 at 1 p.m. and will end on Friday, March 21, 2014 at 12:30 p.m.

ADDRESSES: Meeting address: The meeting will be held at The Westin Washington, DC City Center 1400 M Street Northwest, Washington, DC 20005.

Council address: Mid-Atlantic Fishery Management Council, 800 N. State Street, Suite 201, Dover, DE 19901; telephone: (302) 674-2331.

FOR FURTHER INFORMATION CONTACT: Dr. Christopher M. Moore, Executive Director, Mid-Atlantic Fishery Management Council, 800 N. State Street, Suite 201, Dover, DE 19901; telephone: (302) 526-5255.

SUPPLEMENTARY INFORMATION: The purpose of this workshop is to convene East Coast fishery managers to explore the existing and potential impacts of climate change on East Coast fisheries governance and identify key management questions, concerns, and information needed to guide future research and coordination between management bodies. Participants will work collaboratively to develop specific next steps for addressing climate change and fisheries governance issues. Invited participants include managers and staff of the New England Fishery Management Council (NEFMC), Mid-Atlantic Fishery Management Council (MAFMC), South Atlantic Fishery Management Council (SAFMC), Atlantic States Marine Fisheries Commission (ASMFC), and NOAA Fisheries (NMFS).

Although non-emergency issues not contained in this agenda may come before this group for discussion, in accordance with the Magnuson-Stevens Fishery Conservation and Management Act (Magnuson-Stevens Act), those issues may not be the subject of formal action during this meeting. Actions will be restricted to those issues specifically identified in this notice and any issues arising after publication of this notice that require emergency action under Section 305(c) of the Magnuson-Stevens Act, provided the public has been notified of the Council's intent to take final action to address the emergency.

Special Accommodations

The meeting is physically accessible to people with disabilities. Requests for sign language interpretation or other auxiliary aids should be directed to M. Jan Saunders at the Mid-Atlantic Council Office (302) 526-5251 at least five days prior to the meeting date.

Dated: February 21, 2014.
Tracey L. Thompson,
Acting Deputy Director, Office of Sustainable Fisheries, National Marine Fisheries Service.

[FR Doc. 2014-04183 Filed 2-25-14; 8:45 am]

BILLING CODE 3510-22-P